DEPARTMENT OF LABOR

Employment and Training Administration

[TA-W-65,913]

Performance Powder Coatings LLC, Kokomo, IN; Notice of Termination of Investigation

Pursuant to Section 221 of the Trade Act of 1974, as amended, an investigation was initiated on May 12, 2009 in response to a worker petition filed by a company official on behalf of workers at Performance Powder Coatings, LLC, Kokomo, Indiana.

The petitioner has requested that the petition be withdrawn. Consequently, the investigation has been terminated.

Signed at Washington, DC, this 22nd day of May 2009.
Richard Church,
Certifying Officer, Division of Trade Adjustment Assistance.

[FR Doc. E9-15218 Filed 6-26-09; 8:45 am]

BILLING CODE 4510-FN-P